DEPARTMENT OF HEALTH AND HUMAN SERVICES

Centers for Disease Control and Prevention

[30Day-18-0910]

Agency Forms Undergoing Paperwork Reduction Act Review

In accordance with the Paperwork Reduction Act of 1995, the Centers for Disease Control and Prevention (CDC) has submitted the information collection request titled Message Testing for Tobacco Communication Activities (MTTCA) to the Office of Management and Budget (OMB) for review and approval. CDC previously published a “Proposed Data Collection Submitted for Public Comment and Recommendations” notice on December 13, 2017 to obtain comments from the public and affected agencies. CDC did not receive comments related to the previous notice. This notice serves to allow an additional 30 days for public and affected agency comments. CDC's Office on Smoking and Health has used the MTTCA clearance to support the development and testing of tobacco-related health messages, including messages supporting CDC's National Tobacco Education Campaign (NTEC) called the Tips from Former Smokers® campaign.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Message Testing for Tobacco Communication Activities (MTTCA)(OMB Control Number 0920-0910, expires 03/31/2018)—Extension—National Center for Chronic Disease Prevention and Health Promotion (NCCDPHP), Centers for Disease Control and Prevention (CDC).

Background and Brief Description

In 2012, CDC's Office on Smoking and Health obtained OMB approval of a generic clearance to support the development and testing of tobacco-related health messages, including messages disseminated through multiple phases of a media campaign (Message Testing for Tobacco Communication Activities (MTTCA), OMB Control Number 0920-0910, expiration date 1/31/2015). In 2014, OSH obtained approval for a modification to the MTTCA clearance that granted a three-year extension and an increase in respondents and burden hours (MTTCA, OMB Control Number 0920-0910, expiration date 3/31/2018). CDC's authority to collect information for public health purposes is provided by the Public Health Service Act (41 U.S.C. 241) Section 301.

CDC has employed the MTTCA clearance to collect information about adult smokers' and nonsmokers' attitudes and perceptions, and to pretest draft messages and materials for clarity, salience, appeal, and persuasiveness. The MTTCA clearance has been used to obtain OMB approval for a variety of message testing activities, with particular emphasis on communications supporting CDC's National Tobacco Education Campaign (NTEC) called the Tips from Former Smokers® campaign. This national campaign is designed to increase public awareness of the health consequences of tobacco use and exposure to secondhand smoke. The MTTCA clearance has also supported formative research relating to the development of health messages that are not specifically associated with the national campaign.

Information collection modes under the MTTCA clearance that are supported include in-depth interviews; in-person focus groups; online focus groups; computer-assisted, in-person, or telephone interviews; and online surveys. Each project approved under the MTTCA framework is outlined in a project-specific Information Collection Request that describes its purpose and methodology. Messages developed from MTTCA data collection have been disseminated via multiple media channels including television, radio, print, out-of-home, and digital formats.

CDC requests OMB approval to extend the MTTCA clearance, without changes, for three years. No modification is requested for information collection activities, methodology, respondents, or burden from the existing generic clearance. The extension is needed to support CDC's planned information collections and to accommodate additional needs that CDC may identify during the next three years. For example, the MTTCA generic clearance may be used to facilitate the development of tobacco-related health communications of interest for CDC's collaborative efforts with other federal partners including, but not limited to, the Food and Drug Administration's Center for Tobacco Products. At this time, the respondents and burden outlined in the existing MTTCA clearance are expected to be sufficient to test tobacco related messages developed by CDC for the general US population and subpopulations of interest. The MTTCA clearance should not replace the need for additional generic clearance mechanisms of HHS and other federal partners that may need to test tobacco messages related to their campaigns and initiatives.

The existing MTTCA clearance was granted approval for a total of 132,648 respondents and 32,994 burden hours over a three-year period (annualized number of respondents of 44,216 and annualized burden hours to 10,998). To date, there have been 63,475 respondents and 11,737 burden hours used in this clearance, leaving a balance of 69,173 respondents and 21,257 burden hours (annualized number of respondents of 23,057 and annualized burden hours to 7,085 for each of the three years in the requested extension). CDC will continue to use the MTTCA information collection plan to develop and test messages and materials. Participation is voluntary and there are no costs to respondents, other than their time.

Estimated Annualized Burden Hours
Type of respondents | Form name | Number of respondents | Number of responses per respondent | Average burden per response (in hours) | Total burden (in hours)
General Public and Special Populations | Screening | 23,057 | 1 | 2/60 | 769
| Short Surveys/employment application (Online, Bulletin Board, etc.) | 13,224 | 1 | 10/60 | 2,204
| Medium Surveys (Online) | 9,833 | 1 | 25/60 | 4,097
Total |  | 23,057 |  |  | 7,070

Leroy A. Richardson,
Chief, Information Collection Review Office, Office of Scientific Integrity, Office of the Associate Director for Science, Office of the Director, Centers for Disease Control and Prevention.

[FR Doc. 2018-06392 Filed 3-29-18; 8:45 am]

BILLING CODE 4163-18-P